DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2005, there were six applications approved. This notice also includes information on seven applications, one approved in April 2003 and six approved in August 2005, inadvertently left off the April 2003 and August 2005 notices, respectively. Additionally, 31 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29.

PFC Applications Approved

Public Agency: Dallas-Fort Worth International Airport Board, Dallas/Fort Worth, Texas.

Application Number: 03-06-C-00-DFW.

Application Type: Impose and use a PFC.

PFC Level: $3.00.

Total PFC Revenue Approved in This Decision: $51,900,495.

Earliest Charge Effective Date: December 1, 2015.

Estimate Charge Expiration Date: June 1, 2016.

Class of Air Carriers not Required to Collect PFC's: Air taxi/commercial operators.

Determination: Approved. Based on information contained in the public agency's application, the FAA has determined that the approved class accounts for less than 1 percent of the total annual enplanements at Dallas-Fort Worth International Airport.

Brief Description of Project Approved for Collection and Use: Source isolation deicing system.

Decision Date: April 11, 2003.

FOR FURTHER INFORMATION CONTACT: Mike Nicely, Southwest Region Airports Division, (817) 222-5650.

Public Agency: City of Tallahassee, Florida.

Application Number: 05-05-U-00-TLH.

Application Type: Use PFC revenue.

PFC Level: $4.50.

Total PFC Revenue to be Used in This Decision: $554,642.

Charge Effective Date: October 1, 2002.

Estimated Charge Expiration Date: February 1, 2007.

Class of Air Carriers not Required to Collect PFC's: No change from previous decision.

Brief Description of Projects Approved for Use:

Terminal apron lighting improvements.

Interactive training system improvements.

Americans with Disabilities Act passenger lift.

Terminal security improvements.

Taxiway P rehabilitation.

General aviation taxiway overlays.

New general aviation central apron construction.

Old terminal apron rehabilitation.

General aviation south apron rehabilitation.

Decision Date: August 30, 2005.

FOR FURTHER INFORMATION CONTACT: W. Dean Stringer, Orlando Airports District Office, (407) 812-6331.

Public Agency: Spokane Airport Board, Spokane, Washington.

Application Number: 05-05-C-00-GEG.

Application Type: Impose and use a PFC.

PFC Level: $4.50.

Total PFC Revenue Approved in This Decision: $9,577,800.

Earliest Charge Effective Date: May 1, 2006.

Estimated Charge Expiration Date: October 1, 2009.

Classes of Air Carriers Not Required to Collect PFC's: None.

Brief Description of Projects Approved for Collection and Use:

Planning study.

Land acquisition.

Perimeter road construction.

Terminal rotunda and concourse C enhancements.

Brief Description of Withdrawn Project: Construct airfield apron.

Determination: The project was withdrawn by the public agency on July 29, 2005.

Decision Date: August 30, 2005.

FOR FURTHER INFORMATION CONTACT: Suzanne Lee-Pang, Seattle Airports District Office, (425) 227-2654.

Public Agency: Public Building Commission, St. Clair County, Belleville, Illinois.

Application Number: 05-01-C-00-BLV.

Application Type: Impose and use a PFC.

PFC Level: $3.00.

Total PFC Revenue Approved in This Decision: $7,000,000.

Earliest Charge Effective Date: November 1, 2005.

Estimated Charge Expiration Date: March 1, 2047.

Classes of Air Carriers Not Required to Collect PFC's: None.

Brief Description of Projects Approved for Collection and Use:

Acquire land for airport development.

Environmental mitigation (wetlands).

Construct runway.

Construct aprons.

Construct taxiway.

Utility systems.

Construct access/service roads.

Construct airport traffic control tower.

Construct aircraft rescue and firefighting building.

Maintenance/snow removal equipment facility.

Security fencing.

Extend runway.

Acquire aircraft rescue and firefighting and snow removal equipment.

Construct terminal building.

Decision Date: August 31. 2005.

FOR FURTHER INFORMATION CONTACT: Gary Wilson, Chicago Airports District Office, (847) 294-7631.

Public Agency: Springfield Airport Authority, Springfield, Illinois.

Application Number: 05-09-C-00-SPI.

Application Type: Impose and use a PFC.

PFC Level: $4.50.

Total PFC Revenue Approved in This Decision: $493,000.

Earliest Charge Effective Date: October 1, 2005.

Estimated Charge Expiration Date: June 1, 2007.

Class of Air Carriers Not Required to Collect PFC's: On-demand air taxis.

Determination: Approved. Based on information contained in the public agency's application, the FAA has determined that the approved class accounts for less than 1 percent of the total annual enplanements at Abraham Lincoln Capital Airport.

Brief Description of Projects Approved for Collection and Use:

Security vehicles required by the Transportation Security Administration.

Land acquisition—Scott.

Land acquisition—Williams.

Light control panel, beacon, signs, and windcone.

improve runway 13/31 safety area.

Widen taxiways A and F.

Widen taxiways G and F.

Update geographic information system/airport layout plan/storm sewer plan.

Rehabilitate air carrier apron, phase 2.

Decision Date: August 31, 2005.

FOR FURTHER INFORMATION CONTACT: Gary Wilson, Chicago Airports District Office, (847) 294-7631.

Public Agency: Economic Development Corporation of Chippewa County, Kincheloe, Michigan.

Application Number: 05-01-C-00-CIU.

Application Type: Impose and use a PFC.

PFC Level: $4.50.

Total PFC Revenue Approved in This Decision: $1,087,463.

Earliest Charge Effective Date: November 1, 2005.

Estimated Charge Expiration Date: July 1, 2023.

Class of Air Carriers not Required to Collect PFC's: None.

Brief Description of Projects Approved for Collection and Use:

Runway 16.34 rehabilitation.

Lighting control and airport beacon.

Resurface general aviation ramp.

Runway 9.27 environmental study.

Master plan update.

Aircraft rescue and firefighting building/hangar relocation (design).

Construct aircraft rescue and firefighting/snow removal equipment building.

Construct terminal phase 1.

Acquire aircraft rescue and firefighting vehicle.

Electrical runway 9/27.

Construct crosswind runway 9.27.

Construct parallel taxiway.

Construct terminal.

Wildlife assessment and fencing.

Construct terminal apron.

Acquire snow removal equipment.

Acquire rapid response aircraft rescue and firefighting vehicle.

Rehabilitate apron.

Replace airport beacon.

Update airport master and layout plans.

Decision Date: August 31, 2005.

FOR FURTHER INFORMATION CONTACT: Jason K. Watt, Detroit Airports District Office, (734) 229-2906.

Public Agency: Erie Municipal Airport Authority, Erie, Pennsylvania.

Application Number: 05-05-U-00-ERI.

Application Type: Use PFC revenue.

PFC Level: $4.50.

Total PFC Revenue to be Used in This Decision: $19,250.

Charge Effective Date: August 1, 2003.

Estimated Charge Expiration Date: August 1, 2006.

Class of Air Carriers Not Required to Collect PFC's: No change from previous decision.

Brief Description of Project Approved for Use: Snow removal equipment (Oshkosh blower).

Decision Date: August 31, 2005.

FOR FURTHER INFORMATION CONTACT: Lori Ledebohm, Harrisburg Airports District Office, (717) 730-2835.

Public Agency: Meridian Airport Authority, Meridian, Mississippi.

Application Number: 05-08-C-00-MEI.

Application Type: Impose and use a PFC.

PFC Level: $4.50.

Total PFC Revenue Approved in This Decision: $150,000.

Earliest Charge Effective Date: April 1, 2008.

Estimated Charge Expiration Date: April 1, 2009.

Class of Air Carriers not Required to Collect PFC's: None.

Brief Description of Project Approved for Collection and Use: Sweeper storage/maintenance building.

Decision Date: September 1, 2005.

FOR FURTHER INFORMATION CONTACT: Rans Black, Jackson Airports District Office, (601) 664-9900.

Public Agency: Kent County Department of Aeronautics, Grand Rapids, Michigan.

Application Number: 05-03-I-00-GRR.

Application Type: Impose a PFC.

PFC Level: $4.50.

Total PFC Revenue Approved in This Decision: $13,100,000.

Earliest Charge Effective Date: July 1, 2019.

Estimated Charge Expiration Date: March 1, 2032.

Class of Air Carriers not Required to Collect PFC's: Nonscheduled/on-demand air carriers filing FAA Form 1800-31.

Determination: Approved. Based on information contained in the public agency's appliction, the FAA has determined that the approved class accounts for less than 1 percent of the total annual enplanements at Gerald R. Ford International Airport.

Brief Description of Projects Approved for Collection and Use:

Terminal B concourse expansion.

Terminal A concourse expansion.

Baggage claim expansion.

PFC Level: $3.00.

Total PFC Revenue Approved in This Decision: $242,364.

Earliest Charge Effective Date: May 1, 2018.

Estimated Charge Expiration Date: June 1, 2018.

Class of Air Carriers not Required to Collect PFC's: Air taxi/commercial operators filing FAA Form 1800-31.

Determination: Approved. Based on information contained in the public agency's application, the FAA has determined that the approved class accounts for less than 1 percent of the total annual enplanements at General Mitchell International Airport (MKE).

Brief Description of Projects Approved for Collection and use at MKE:

Reconstruct west perimeter road.

Runway safety areas—1L, 19R, and 25L.

Brief Description of Project Approved for Collection at MKE and Use at Lawrence J. Timmerman Airport:

Runway and taxiway rehabilitation.

Decision Date: September 8, 2005.

FOR FURTHER INFORMATION CONTACT: Sandy DePottey, Minneapolis Airports District Office, (612) 713-4363.

Public Agency: International Falls-Koochiching County Airport Commission, International Falls, Minnesota.

Application Number: 05-04-C-00-INL.

Application Type: Impose and use a PFC.

PFC Level: $4.50.

Total PFC Revenue Approved in this Decision: $477,226.

Earliest Charge Effective Date: November 1, 2005.

Estimated Charge Expiration Date: July 1, 2011.

Class of Air Carriers not Required to Collect PFC's:

Air taxi/commercial operators.

Determination: Approved. Based on information contained in the public agency's application, the FAA has determined that the approved class accounts for less than 1 percent of the total amount enplanements at Falls International Airport.

Brief Description of Projects Approved for Collection and Use:

Land acquisition—14.2 acres.

Engineering services—approach lighting (medium intensity approach lighting system with runway end identifier lights) and snow removal equipment.

Snow removal equipment—snow plow and sander.

Acquire taxiway reflectors.

Land acquisition—6.6 acres.

PFC administration.

Land acquisition—33 acres.

Engineering services for land acquisition and apron rehabilitation.

Concrete apron rehabilitation.

Terminal building lighting improvement.

Replace broom carrier unit.

Abrasive storage building.

Acquire snow removal equipment—loader.

Obstruction removal for runway practice zone—bury power line.

Rehabilitate heating, ventilation, and air conditioning system in terminal building.

Improve terminal security.

Part 1542 security measures.

Medium intensity approach lighting system with runway end identifier lights installation.

Acquire wetlands credits.

Construct snow removal equipment storage facility.

Prepare environmental assessment for runway 13/31 extension.

Apron lighting improvements.

Ganged public use seating in terminal.

Design runway 13 precision approach path indicator.

Replace overhead baggage doors.

Reconstruct and expand air carrier apron pavement.

Reconstruct and expand general aviation apron pavement.

Replace visual approach slope indicator with precision approach path indicator and replace regulator on runway 13.

Spot milling on runway 13/31 and the parallel taxiway.

Engineering for apron, precision approach path indicator, and spot milling.

Replace emergency generator.

Purchase snow removal equipment loader with ramp plow and snow bucket.

Refurbish terminal ceiling.

Decision Date: September 19, 2005.

FOR FURTHER INFORMATION CONTACT: Dan Millenacker, Minneapolis Airports District Office, (612) 713-4359.

Public Agency: Wilcomico County Airport Commission, Salisbury, Maryland.

Application Number: 05-02-C-00-SBY.

Application Type: Impose and use a PFC.

PFC Level: $3.00.

Total PFC Revenue Approved in This Decision: $1,827,724.

Earliest Charge Effective Date: October 1, 2005.

Estimated Charge Expiration Date: August 1, 2014.

Class of Air Carriers not Required to Collect PFC's: Air taxi/commercial operators filing or requested to file FAA Form 1800-31.

Determination: Approved. Based on information contained in the public agency's application, the FAA has determined that the approved class accounts for less than 1 percent of the total annual enplanements at Salisbury-Ocean City: Wicomico Regional Airport.

Brief Description of Projects Approved for Collection and Use:

Develop PFC program and PFC application.

Conduct environmental mitigation/permitting for runway 14/32 preliminary design; rehabilitate runway 14/32 navigational aids coordination (design); construct snow removal equipment storage building (design).

Acquire aircraft rescue and firefighting vehicle.

Acquire land for runway 14 runway protection zone (Goldman parcel 30, phase 1).

Rehabilitate runway 14/32 (design); runway 32 navigational aids extension (design).

Rehabilitate taxiway C—phase II (design and construction).

Rehabilitate runway 14/32—1999 20-year bond debt service.

Rehabilitate runway 14/32 (construction phase I).

Remove obstructions, runway 5/23 (design).

Acquire snow removal vehicles.

Runway 32 extension (design).

Acquire land for runway 14 runway protection zone (Goldman parcel 30, phase II).

Acquire land for runway 14 runway protection zone (Walston parcel 63).

Rehabilitate runway 14/32 (construction phase II).

Remove obstruction, runway 5/23 (construction).

Extend runway 14/32 (construction).

Improve runway 5 extended runway safety area (design).

Rehabilitate runway 5/23 (design).

Airport master plan update.

Improve runway 5 extended runway safety area (construction).

Construct taxiway F and apron (design and construction).

Brief Description of Projects Approved for Collection:

Rehabilitate runway 5/23 (construction).

Snow removal equipment storage building (construction).

Reconstruct taxiway E (design and construction).

Reconstruct T-Hangar taxiways (design and construction).

Decision Date: September 29, 2005.

FOR FURTHER INFORMATION CONTACT: Luis Loarte, Washington Airports District Office, (703) 661-1365.

Amendments to PFC Approvals
Amendment No., City, State | Amendment approved date | Original approved net PFC revenue | Amended approved net PFC revenue | Original estimated charge exp. date | Amended estimated charge exp. date
97-03-C-02-GJT, Grand Junction, CO | 10/25/04 | $1,932,000 | $1,408,237 | 09/01/04 | 07/01/02
99-01-C-02-LMT, Klamath Falls, OR | 03/25/05 | 426,374 | 426,374 | 11/01/04 | 05/01/04
02-04-C-02-TLH, Tallahassee, FL | 03/28/05 | 11,500,458 | 11,572,800 | 02/01/07 | 02/01/07
04-04-C-01-TUP, Tupelo, MS | 04/18/05 | 170,000 | 192,500 | 07/01/14 | 07/01/14
*96-02-C-02-DAB, Daytona Beach, FL | 05/20/05 | 8,254,367 | 8,343,983 | 09/01/07 | 03/01/10
96-02-C-03-DAB, Daytona Beach, FL | 08/16/05 | 8,343,983 | 20,646,852 | 03/01/10 | 03/01/20
96-02-C-05-DFW, Dallas/Fort Worth, TX | 08/31/05 | 90,172,120 | 88,751,233 | 10/01/98 | 10/01/98
98-06-I-02-SJC, San Jose, CA | 09/02/05 | 35,000,000 | 72,022,700 | 07/01/01 | 07/01/01
01-12-C-01-SJC, San Jose, CA | 09/02/05 | 9,407,000 | 38,671,724 | 09/01/08 | 09/01/08
02-13-C-02-SJC, San Jose, CA | 09/02/05 | 146,485,000 | 61,589,000 | 08/01/14 | 08/01/14
04-14-C-01-SJC, San Jose, CA | 09/02/05 | 97,197,000 | 39,131,000 | 09/01/17 | 07/01/14
*93-01-C-04-BOS, Boston, MA | 09/02/05 | 764,316,000 | 683,205,217 | 10/01/17 | 02/01/11
96-02-C-01-BOS, Boston, MA | 09/02/05 | 163,037,000 | 163,037,000 | 09/01/12 | 10/01/22
97-03-U-01-BOS, Boston, MA | 09/02/05 | NA | NA | 10/01/17 | 02/01/11
96-02-C-06-DFW, Dallas/Fort Worth, TX | 09/07/05 | 88,751,233 | 88,751,233 | 10/01/98 | 10/01/98
98-04-U-02-DFW, Dallas/Forth Worth, TX | 09/07/05 | NA | NA | 10/01/98 | 10/01/98
03-06-C-01-VLD, Valdosta, GA | 09/08/05 | 185,100 | 179,596 | 09/01/04 | 09/01/04
*01-01-C-01-APN, Alpena, MI | 09/09/05 | 268,480 | 268,480 | 11/01/09 | 08/01/08
*92-01-I-02-GRR, Grand Rapids, MI | 09/09/05 | 94,359,802 | 94,359,802 | 07/01/19 | 10/01/16
95-02-U-01-GRR, Grand Rapids, MI | 09/09/05 | NA | NA | 07/01/19 | 10/01/16
*00-04-C-02-SJU, San Juan, PR | 09/09/05 | 98,663,704 | 103,572,267 | 08/01/09 | 06/01/08
99-04-C-03-CAK, Akron, OH | 09/15/05 | 2,815,200 | 3,516,214 | 09/01/02 | 09/01/02
02-05-C-01-CAK, Akron, OH | 09/15/05 | 7,277,000 | 9,665,854 | 11/01/06 | 05/01/05
94-01-C-04-ISP, Islip, NY | 09/19/05 | 21,956,043 | 21,974,503 | 09/01/05 | 09/01/05
96-02-C-01-ISP, Islip, NY | 09/19/05 | 4,058,200 | 4,059,528 | 09/01/06 | 09/01/06
99-03-C-01-ISP, Islip, NY | 09/19/05 | 180,000 | 204,000 | 11/01/06 | 11/01/06
01-04-C-01-ISP, Islip, NY | 09/19/05 | 441,949 | 444,546 | 01/01/07 | 01/01/07
00-06-C-02-COS, Colorado Springs, CO | 09/22/05 | 8,441,519 | 3,374,865 | 09/01/03 | 01/01/01
02-07-C-01-COS, Colorado Springs, CO | 09/22/05 | 7,566,700 | 5,620,814 | 02/01/06 | 11/01/04
01-07-I-01-YKM, Yakima, WA | 09/22/05 | 456,000 | 456,000 | 03/01/05 | 03/01/02
*98-01-C-01-MWH, Moses Lake, WA | 09/27/05 | 470,000 | 470,000 | 03/01/09 | 01/01/16
Note: The amendments denoted by an asterisk (*) include a change to the PFC level charged from $3 per enplaned passenger to $4.50 per enplaned passenger. For Boston, MA, this change is effective on October 1, 2005. For Daytona Beach, FL, Grand Rapids, MI, And Moses Lake, WA, this change is effective on November 1, 2005. For Alpena, MI and San Juan, PR, this change is effective on December 1, 2005.

Dated: Issued in Washington, DC, on December 20, 2005.
Joe Hebert,
Manager, Financial Analysis and Passenger Facility Charge Branch.

[FR Doc. 05-24504 Filed 12-27-05; 8:45 am]

BILLING CODE 4910-13-M